DEPARTMENT OF ENERGY

Federal Energy Regulatory Commission

[Project No. 606-027—California]

Pacific Gas and Electric Company; Notice of Availability of the Final Environmental Impact Statement for the Kilarc-Cow Creek Hydroelectric Project

In accordance with the National Environmental Policy Act of 1969, as amended, and the Federal Energy Regulatory Commission's (Commission) regulations, 18 CFR part 380 (Order No. 486, 52 FR 47897), the Office of Energy Projects has reviewed the application, filed March 12, 2009, requesting surrender of the Kilarc-Cow Creek Project (FERC No. 606) license. The project is located on Old Cow Creek, South Cow Creek, and tributaries in Shasta County, California. The Draft Environmental Impact Statement (DEIS) was issued for public comment on June 22, 2010, followed by two public meetings. Commission staff has prepared the Final Environmental Impact Statement (FEIS) for the project.

The FEIS contains staff's evaluation of the licensee's proposal and the alternatives for surrendering the license of the Kilarc-Cow Creek Project. The FEIS documents the views of governmental agencies, non-governmental organizations, affected Indian tribes, the public, the licensee, and Commission staff.

A copy of the FEIS is available for review in the Commission's Public Reference Branch, Room 2A, located at 888 First Street, NE., Washington, DC 20426. The FEIS also may be viewed on the Commission's Web site at http://www.ferc.gov, under the eLibrary link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via e-mail of new filings and issuances related to this or other pending projects. For assistance, contact FERC Online Support.

For further information, contact the environmental coordinator, CarLisa Linton-Peters at (202) 502-8416, or via e-mail at carlisa.linton-peters@ferc.gov.

Dated: August 16, 2011.
Kimberly D. Bose,
Secretary.

[FR Doc. 2011-21449 Filed 8-22-11; 8:45 am]

BILLING CODE 6717-01-P